DEPARTMENT OF COMMERCE

International Trade Administration

A-570-886

Polyethylene Retail Carrier Bags from the People's Republic of China: Extension of Time Limit for the Preliminary Results of Antidumping Duty Administrative Review

AGENCY: Import Administration, International Trade Administration, Department of Commerce.

EFFECTIVE DATE: August 23, 2006.

FOR FURTHER INFORMATION CONTACT: Laurel LaCivita or Matthew Quigley, AD/CVD Operations, Office 8, Import Administration, International Trade Administration, U.S. Department of Commerce, 14th Street and Constitution Avenue, NW, Washington, DC 20230; telephone (202) 482-4243 or (202) 482-4551, respectively.

SUPPLEMENTARY INFORMATION:

Background

On September 28, 2005, the Department of Commerce (“the Department”) published in the Federal Register a notice of initiation of the antidumping duty administrative review of Polyethylene Retail Carrier Bags (“PRCBs”) from the People's Republic of China (“PRC”) for the period January 26, 2004, through July 31, 2005. See Initiation of Antidumping and Countervailing Duty Administrative Reviews and Request for Revocation in Part, 70 FR 56631 (September 28, 2005).

Extension of Time Limit for Preliminary Results

Section 751(a)(3)(A) of the Tariff Act of 1930, as amended (“the Act”), requires the Department to make a preliminary determination within 245 days after the last day of the anniversary month of an order for which a review is requested. Section 751(a)(3)(A) of the Act further states that, if it is not practicable to complete the review within the time specified, the administering authority may extend the 245-day period to issue its preliminary results by up to 120 days. On April 27, 2006, the Department published in the Federal Register a notice extending the deadline by 110 days. See Polyethylene Retail Carrier Bags from the People's Republic of China: Extension of Time Limit for the Preliminary Results of Antidumping Duty Administrative Review, 71 FR 24840 (April 27, 2006). The preliminary results of review are currently due no later than August 21, 2006. Because the Department needs additional time to analyze a significant amount of information pertaining to each company's sales practices, factors of production, corporate relationships, and to review responses to supplemental questionnaires, we are extending the time period for issuing the preliminary results of review by an additional 10 days until August 31, 2006, in accordance with section 751(a)(3)(A) of the Act. The final results continue to be due 120 days after the publication in the Federal Register of the preliminary results of review.

Dated: August 17, 2006.
Gary Taverman,
Acting Deputy Assistant Secretary for Import Administration.

[FR Doc. E6-13979 Filed 8-22-06; 8:45 am]

BILLING CODE 3510-DS-S